DEPARTMENT OF STATE

[Public Notice 10261]

60-Day Notice of Proposed Information Collection: Application for Immigrant Visa and Alien Registration

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to May 29, 2018.

ADDRESSES: You may submit comments by any of the following methods:

• Web: Persons with access to the internet may comment on this notice by going to www.Regulations.gov. You can search for the document by entering “Docket Number: DOS-2018-0003” in the Search field. Then click the “Comment Now” button and complete the comment form.

• Email: PRA_BurdenComments@state.gov.

You must include the DS form number (if applicable), information collection title, and the OMB control number in any correspondence.

SUPPLEMENTARY INFORMATION:

• Title of Information Collection: Electronic Application for Immigrant Visa and Alien Registration.

• OMB Control Number: 1405-0185.

• Type of Request: Revision of a Currently Approved Collection.

• Originating Office: Bureau of Consular Affairs, Visa Office (CA/VO/L/R).

• Form Number: DS-260.

• Respondents: Immigrant Visa Applicants.

• Estimated Number of Respondents: 710,000.

• Estimated Number of Responses: 710,000.

• Average Time per Response: 155 minutes.

• Total Estimated Burden Time: 1,834,167 Annual Hours.

• Frequency: Once per application.

• Obligation To Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Electronic Application for Immigrant Visa and Alien Registration (DS-260) is used to collect biographical information from individuals seeking an immigrant visa. The consular officer uses the information collected to elicit information necessary to determine an applicant's eligibility for a visa.

Methodology

The DS-260 will be submitted electronically over an encrypted connection to the Department via the internet. The applicant will be instructed to print a confirmation page containing a bar coded record locator, which will be scanned at the time of processing.

Additional Information

The Department is revising the collection to add several additional questions for immigrant visa applicants. One question lists multiple social media platforms and requires the applicant to provide any identifiers used by applicants for those platforms during the five years preceding the date of application. The platforms listed may be updated by the Department by adding or removing platforms. Additional platforms will be added only if collection is consistent with the uses described in the Supporting Statement and after Office of Management and Budget approval. In addition, the applicant will be given the option to provide information about any social media identifiers associated with any platforms other than those that are listed that the applicant has used in the last five years. The Department will collect this information for identity resolution and vetting purposes based on statutory visa eligibility standards. Other questions seek five years of previously used telephone numbers, email addresses, and international travel; all prior immigration violations; and whether specified family members have been involved in terrorist activities. The “Sign and Submit” statement will provide applicants information related to correcting records within Federal Bureau of Investigation databases and additional information regarding the immigrant visa medical examination. Applicants from countries where female genital mutilation/cutting (FGM/C) is prevalent will be provided a link in the DS-260 to an electronic pamphlet that covers the illegality of the practice in the United States. Further, applicants will be required to check a box verifying that the link was provided to them. Finally, the revised visa application forms will include additional information regarding the visa medical examination that some applicants may be required to undergo. Additional details of the changes are available in supporting documents.

Carl C. Risch,
Assistant Secretary, Bureau of Consular Affairs, Department of State.

[FR Doc. 2018-06490 Filed 3-29-18; 8:45 am]

BILLING CODE 4710-06-P